NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: October 16, 2007, 8:30 a.m.-5:30 p.m. and October 17, 2007, 8:30 a.m.-2 p.m.

Place: National Science Foundation, 4201 Wilson Boulevard, Arlington, VA 22230.

Building entry badges must be obtained at the above address; the meeting will be held in Stafford II, Room 555 of the National Science Foundation Building located at 4121 Wilson Boulevard.

Type of Meeting: Open.

Contact Person: Dr. Margaret E.M. Tolbert, Senior Advisor and Executive Liaison, CEOSE, Office of Integrative Activities, National Science Foundation, 4201 Wilson Boulevard, Arlington, VA 22230. Telephone: (703) 292-8040; mtolbert@nsf.gov.

Minutes: May be obtained from the Executive Liaison at the above address.

Purpose of Meeting: To provide advice and recommendations concerning broadening participation in science and engineering.

Agenda

Tuesday, October 16, 2007

Welcome and Opening Statement by the CEOSE Chair.

Introductions.

Presentations and Discussions:

○ Experimental Program to Stimulate Competitive Research.

○ The American Community Survey, a Survey Conducted by SRS of the Social, Behavioral and Economic Sciences Directorate.

○ Broadening Participation Briefings on NSF Advisory Committee Meetings.

○ Concurrent Planning Meetings of CEOSE Ad Hoc Subcommittees.

○ Reports on Strategic Planning by CEOSE, Mini-Symposium: Institutions Serving Persons with Disabilities Who Are in STEM Fields, Broadening Participation Efforts of Several Federal Agencies, and the NSF Broadening Participation Plan.

Wednesday, October 17, 2007

Opening Statement by the New CEOSE Chair.

Presentations/Discussions:

○ Broadening Participation Initiatives of the NSF Directorate for Engineering.

○ Broadening Participation Initiatives of the Chemistry Division of the NSF Directorate for Mathematical and Physical Sciences.

○ Discussion Topics Pertinent to the CEOSE Mandate with the NSF Director and Deputy Director.

Completion of Unfinished Business.

Susanne Bolton,
Committee Management Officer.

[FR Doc. E7-18597 Filed 9-20-07; 8:45 am]

BILLING CODE 7555-01-P